DEPARTMENT OF AGRICULTURE

Office of the Chief Financial Officer; Submission for OMB Review; Comment Request

February 19, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical, or other technological collection techniques or other forms of information technology.

Comments regarding this information collection received by March 28, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such person are not required to respond to the collection of information unless it displays a currently valid OMB control number.

Office of the Chief Financial Officer

Title: Information Collection Request; Representations Regarding Felony Conviction and Tax Delinquent Status for Corporate Applicants and Awardees.

OMB Control Number: 0505-0025.

Summary of Collection: The appropriations restrictions contained in all of the respective appropriations acts since fiscal year (FY) 2012 regarding financial transactions with corporations that have tax delinquencies or felony convictions were continued in the Consolidated Appropriations Act, 2016, Public Law 114-113. The restrictions are located in Division E, Title VII, sections 745 and 746, respectively. The restrictions apply to transactions with corporations that (1) have any “unpaid Federal tax liability that has been assessed, for which all judicial and administrative remedies have been exhausted or have lapsed, and that is not being paid in a timely manner pursuant to an agreement with the authority responsible for collecting the tax liability, where the awarding agency is aware of the unpaid tax liability and (2) were “convicted of a felony criminal violation under any Federal law within the preceding 24 months, where the awarding agency is aware of the conviction. The restricted transactions include contracts, grants, loans, loan guarantees, cooperative agreements, and memoranda of understanding/agreement). The restrictions may not apply if a Federal agency considers suspension or debarment of the corporation and determines that such action is not necessary to protect the interests of the Government. The U.S. Department of Agriculture's (USDA) agencies and staff offices must comply with the restrictions.

During fiscal years 2012-2014, similar provisions were not uniform across the government. For USDA, one set of provisions applied to all agencies and staff offices except the Forest Service and a second set of slightly different provisions applied only to the Forest Service. To facilitate compliance with the appropriations restrictions, USDA created two sets of forms—one for use by all USDA agencies and staff offices (Forms AD-3030-Y and AD-3031-Y and one for use only by the Forest Service (Forms AD-3030 FS and AD-3031 FS). In FY 2015 Congress enacted slightly different government-wide provisions for all agencies and departments. In response, USDA created a new set of forms that adhered to the change for use by all of its agencies and staff offices including the Forest Service (Forms AD-3030 and AD-3031).

USDA must also comply with prior year provisions issued between FY 2012-2014 to the extent that carry over/no year funds provided by those years' appropriations were used in awards or award adjustments.

Need and Use of the Information: To comply with the appropriations restrictions, the information collection requires corporate applicants and awardees for USDA programs to represent accurately whether they have or do not have qualifying tax delinquencies or convictions which would prevent USDA from entering into a proposed business transaction with the corporate applicant. For non-procurement programs and transactions, these representations will be submitted on the proposed information collection Forms AD-3030, AD-3031, AD-3030-Y, AD-3031-Y, AD-3030-FS and AD-3031-FS. This information collection, deals only with USDA non-procurement transactions. The categories of non-procurement transactions covered by this information collection are: non-procurement contracts, grants, loans, loan guarantees, cooperative agreements, and some memoranda of understanding/agreement. Accordingly, this information collection is not intended for use with USDA procurement transactions. . For more specific information about whether a particular non-procurement program or transaction is included in this list please contact the USDA agency or staff office responsible for the program or transaction in question.

Forms AD-3030, AD-3030-Y and AD-3030-FS will effectuate compliance with the appropriations restrictions by requiring all corporate applicants to represent, at the time of application for a non-procurement program, whether they have tax delinquencies or felony convictions that would prevent USDA from doing business with them. Corporations include, but are not limited to, any entity that has filed articles of incorporation in one of the 50 States, the District of Columbia, or the various territories of the United States. Corporations include both for profit and non-profit entities. Forms AD-3031, AD-3031-Y and AD-3031-FS require an affirmative representation, at the time of the award, that corporate awardees for non-procurement transactions do not have tax delinquencies or felony convictions that would prevent USDA from doing business with them. If the application and award process are a single step, the agency or staff office may require both forms to be filed simultaneously. Collection of this information is necessary to ensure that USDA agencies and staff offices comply with the appropriations restrictions prohibiting the Government from doing business with corporations with tax delinquencies or felony convictions.

The burden for each form will be accounted for within the individual USDA agency and staff office collection packages using the forms. The time required to complete this information collection is estimated to average 0.25 minutes per response, per form, including the time for reviewing instructions, searching existing data sources, gathering and maintaining the data needed, and completing and reviewing the collection of information.

USDA's Office of the Chief Financial Officer (OCFO) is requesting approval for one respondent and a one hour place holder for the forms. The total estimated burden for the OCFO's use of the forms is thus one hour, which will allow it to distribute the approved forms to USDA agencies and staff offices. USDA agencies and staff offices using the forms will reflect the approved OMB control number of the package and account for the burden within their individual collection packages when they seek Office of Management and Budget approval or re-authorization.

Respondents: Corporate applicants and awardees for USDA non-procurement programs, including grants, cooperative agreements, loans, loan guarantees, some memoranda of understanding/agreement, and non-procurement contracts.

Estimated Total Annual Responses: 1.

Frequency of Collection: Other: Corporations—each time they apply to participate in a multitude of USDA non-procurement programs; Awardees each time they receive an award.

Estimated Total Annual Burden Hours on Respondents: 1.

Charlene Parker,
Departmental Information Collection Clearance Officer.

[FR Doc. 2016-03975 Filed 2-24-16; 8:45 am]

BILLING CODE 3410-KS-P